DEPARTMENT OF HEALTH AND HUMAN SERVICES

Administration for Children and Families

Submission for OMB Review; Comment Request

Title: Follow-Up Study of Issues Affecting the Duration of Child Care Subsidy Use.

OMB No.: New Collection.

Description: Child care subsidies provide an important benefit to low-income working families, offering them increased access to forms of child care that would otherwise be beyond their means. However, recent research suggests that, for many families, this benefit may be short-lived or unstable. There are many possible explanations for these patterns, and the explanations may be different for different types of families. Recognizing that information about the reasons for short subsidy duration would be helpful to States, the Child Care Bureau has funded Abt Associates Inc. to conduct a two-State investigative study on the duration and use of child care subsidies. This study will, in the short term, provide States with information to shape or modify their child care subsidy procedures. In addition, the study will generate hypotheses that could be systematically tested in later research.

The study will examine the use of child care subsidies by 840 families in Illinois and 840 in Oregon. In each State, the sample will be a representative sample of current Temporary Assistance for Needy Families (TANF) families and non-TANF families—all of whom apply and are approved for subsidies and who use them for at least one month. Families will be contacted by telephone approximately nine months after they began using subsidies and will be asked to participate in the study. If they agree, a 45-minute telephone interview will ensue immediately or will be scheduled. It is expected that, after the nine months, over half of the families will no longer be using subsidies. Patterns of subsidy use prior to and during the study period will be tracked through State administrative data.

The parent telephone interview will include questions about parents' employment, subsidy status and experience, child care usage, and changes in household composition over the nine-month period. Although the analyses will rely heavily on identification of trigger events, the survey will include questions about other less tangible considerations that may have influenced the duration of parents subsidy use. Telephone interviews will be conducted using Computer-Assisted-Telephone Interviewing (CATI). Responses are voluntary and confidential.

The study will also analyze State administrative data on all families who are approved for subsidies during the recruitment period for the study. This will allow researchers to assess the generalizability of the sub-sample of families who are recruited for the in-depth telephone interview; this sub-sample consists of approximately 840 families in each State.

No existing data sources can provide all the information needed to complete the Follow-Up Study of Issues Affecting the Duration of Child Care Subsidy Use. These data will help the Child Care Bureau and States to better understand reasons for short child care subsidy duration.

Respondents: The sample includes 840 families in Illinois and 840 in Oregon.

Annual Burden Estimates
Instrument | Number of respondents | Number of responses per respondent | Average burden hours per response | Total burden hours
Illinois parent survey | 840 | 1 | .75 | 630
Oregon parent survey | 840 | 1 | .75 | 630

Estimated Total Annual Burden Hours: 1,260

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF. E-mail address: Katherine_T._Astrich@omb.eop.gov.

Dated: April 17, 2006.
Robert Sargis,
Reports Clearance Officer.

[FR Doc. 06-3822 Filed 4-21-06; 8:45 am]

BILLING CODE 4184-01-M